DEPARTMENT OF COMMERCE

International Trade Administration

[A-570-851]

Certain Preserved Mushrooms From the People's Republic of China; Extension of Time Limit for Final Results of Antidumping Duty New Shipper Reviews

AGENCY: Import Administration, International Trade Administration, Department of Commerce.

DATES: Effective Date: January 25, 2011.

FOR FURTHER INFORMATION CONTACT: Scott Hoefke or Fred Baker, AD/CVD Operations, Office 7, Import Administration, International Trade Administration, U.S. Department of Commerce, 14th Street and Constitution Avenue, NW., Washington, DC 20230; telephone: (202) 482-4947 or (202) 482-2924, respectively.

SUPPLEMENTARY INFORMATION:

Background

On March 31, 2010, the Department of Commerce (the Department) published in the Federal Register the initiation of two new shipper reviews (NSRs) of the antidumping duty order on certain preserved mushrooms from the People's Republic of China, covering the period of February 1, 2009, to January 31, 2010. See Certain Preserved Mushrooms From the People's Republic of China: Notice of Initiation of Antidumping Duty New Shipper Reviews, 75 FR 16075 (March 31, 2010). On October 29, 2010, the Department published in the Federal Register the preliminary results for the NSRs. See Certain Preserved Mushrooms From the People's Republic of China: Preliminary Results of Antidumping Duty New Shipper Reviews, 75 FR 66729 (October 29, 2010). The current deadline for the final results of these reviews is January 20, 2011. These reviews cover Shandong Fengyu Edible Fungus Co., Ltd. and Zhangzhou Tongfa Foods Industry Co., Ltd.

Extension of Time Limits for Preliminary Results of Review

Section 751(a)(2)(B)(iv) of the Tariff Act of 1930, as amended (the Act), and 19 CFR 351.214(i)(1), require the Department to complete the final results of an NSR of an antidumping duty order within 90 days after the date on which the preliminary results were issued. However, the Department may extend the deadline for completion of the final results of an NSR to 150 days if it determines the case is extraordinarily complicated. See section 751(a)(2)(B)(iv) of the Act and 19 CFR 351.214(i)(2).

The Department finds these NSRs are extraordinarily complicated and, therefore, it requires additional time to complete the preliminary results. Specifically, the Department requires additional time to analyze the extensive entry and sales documentation for the two respondents, and various issues that arise from these documents. Accordingly, the Department is extending the time limit for completion of the preliminary results of these NSRs by 60 days (i.e., until March 21, 2011).

This extension is issued and published in accordance with section 751(a)(2)(B)(iv) of the Act and 19 CFR 351.214(i)(2).

Dated: January 14, 2011.
Christian Marsh,
Deputy Assistant Secretary for Antidumping and Countervailing Duty Operations.

[FR Doc. 2011-1399 Filed 1-24-11; 8:45 am]

BILLING CODE 3510-DS-P